INTERNATIONAL TRADE COMMISSION

[Investigation No. 731-TA-1020 (Fourth Review)]

Barium Carbonate From China; Termination of Five-Year Review

AGENCY: United States International Trade Commission.

ACTION: Notice.

SUMMARY: The Commission instituted the subject five-year review on July 1, 2025 to determine whether revocation of the antidumping duty order on barium carbonate from China would be likely to lead to continuation or recurrence of material injury. On October 3, 2025, the Department of Commerce published notice in the Federal Register that it was revoking the order effective August 20, 2025, because no domestic interested party filed a timely notice of intent to participate. Accordingly, the subject review is terminated.

DATES: August 20, 2025 (effective date of revocation of the order).

FOR FURTHER INFORMATION CONTACT: Camille Bryan (202-205-2811), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov). The public record for this investigation(s) may be viewed on the Commission's electronic docket (EDIS) at https://edis.usitc.gov.

Authority: This review is being terminated under authority of title VII of the Tariff Act of 1930 and pursuant to section 751(c) of the Tariff Act of 1930 (19 U.S.C. 1675(c)). This notice is published pursuant to section 207.69 of the Commission's rules (19 CFR 207.69).

By order of the Commission.
Issued: November 17, 2025.
Lisa Barton,
Secretary to the Commission.

[FR Doc. 2025-20369 Filed 11-19-25; 8:45 am]

BILLING CODE 7020-02-P